DEPARTMENT OF DEFENSE

Incentive Program for Major Defense Acquisition Programs To Use Machine Tools and Other Capital Assets Produced Within the United States

AGENCY: Department of Defense.

ACTION: Request for public comments.

SUMMARY: The Department of Defense is establishing an incentive program in accordance with Section 822 of the National Defense Authorization Act for Fiscal Year 2004 and is seeking information that will assist it in identifying appropriate incentives for industry to use machine tools and other capital assets produced in the United States. It is the Department's goal to structure this incentive program and publish interim implementing regulations in the Fall of 2004.

DATES: Submit written comments to the address shown below on or before May 24, 2004.

ADDRESSES: Submit comments to: Director, Defense Procurement and Acquisition Policy, 3060 Defense Pentagon, Attn: Mr. Daniel C. Nielsen, Washington, DC 20301-3060; or by e-mail to daniel.nielsen@osd.mil.

FOR FURTHER INFORMATION CONTACT: Susan Hildner, (703) 695-4258.

SUPPLEMENTARY INFORMATION: Section 822 of the National Defense Authorization Act for Fiscal Year 2004 (Pub. L. 108-136)—Incentive Program for Major Defense Acquisition Programs to Use Machine Tools and Other Capital Assets Produced within the United States—requires the Secretary of Defense to plan and establish an incentive program for contractors to purchase capital assets manufactured in the United States. This incentive program applies to contracts for the procurement of a major defense acquisition program and applies to contracts entered into after May 2005. Section 822 authorizes the Secretary of Defense to use the Industrial Base Capabilities Fund established under Section 814 of Public Law 108-136 for this purpose. This section also directs the Secretary to provide consideration in source selection for contractors with eligible assets for major defense systems and makes provision for establishing implementing regulations.

As the Department crafts this incentive program, industry input is considered essential. What does industry believe are the factors or inducements that would motivate contractors to purchase capital assets manufactured in the United States? It should be noted that no funds have been appropriated for the Industrial Base Capabilities Fund. Therefore, the Department is seeking suggestions for other alternatives. Interested parties are invited to submit written comments to assist the Department in its deliberations and discussions.

Material that is business confidential information will be exempted from public disclosure as provided for by 5 U.S.C. 552(b)(4) (Freedom of Information Act rules). Anyone submitting business confidential information should clearly identify the business confidential portion of the submission and also provide a non-confidential submission, which can be placed in the public file. Comments not marked business confidential may be subject to disclosure under the Freedom of Information Act.

Michele P. Peterson,
Executive Editor, Defense Acquisition Regulations Council.

[FR Doc. 04-9267 Filed 4-22-04; 8:45 am]

BILLING CODE 5001-08-P